DEPARTMENT OF ENERGY

Federal Energy Regulatory Commission

[Docket No. RP00-441-000]

Dominion Transmission, Inc.; Notice of Proposed Changes in FERC Gas Tariff

August 11, 2000.

Take notice that on August 7, 2000, Dominion Transmission, Inc. (DTI), formerly CNG Transmission Corporation, filed as part of its FERC Gas Tariff, Second Revised Volume No. 1, tariff sheets in order to correct inadvertent typographical and clerical errors appearing in certain tariff sheets.

DTI states that copies of its filing have been served upon DTI's customers and interested state commissions. DTI also states that copies of this filing are also available for public inspection during regular business hours in a convenient form and place at DTI's offices at 445 West Main Street, Clarksburg, West Virginia 26301.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20902 Filed 8-16-00; 8:45 am]

BILLING CODE 6717-01-M